DEPARTMENT OF COMMERCE

National Institute of Standards and Technology

National Fire Protection Association (NFPA): Request for Comments on NFPA's Codes and Standards

AGENCY: National Institute of Standards and Technology, Commerce.

ACTION: Notice.

SUMMARY: Since 1896, the National Fire Protection Association (NFPA) has accomplished its mission by advocating scientifically based consensus codes and standards, research, and education for safety related issues. NFPA's National Fire Codes ®, which holds over 290 documents, are administered by more than 238 Technical Committees comprised of approximately 7,200 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and take approximately two years to complete. Each Revision Cycle proceeds according to a published schedule that includes final dates for all major events in the process. The process contains five basic steps that are followed both for developing new documents as well as revising existing documents. These steps are: Calling for Proposals; Publishing the Proposals in the Report on Proposals; Calling for Comments on the Committee's disposition of the Proposals and these Comments are published in the Report on Comments; having a Technical Report Session at the NFPA Conference and Expo; and finally, the Standards Council Consideration and Issuance of documents.

Note: Anyone wishing to make Amending Motions on the Technical Committee Reports (ROP and ROC) must signal his or her intention by submitting a Notice of Intent to Make a Motion by the Deadline of 5 p.m. EST/EDST on or before October 21, 2011. Certified motions will be posted by November 18, 2011. Documents that receive notice of proper Amending Motions (Certified Amending Motions) will be presented for action at the annual June 2012 Association Technical Meeting. Documents that receive no motions will be forwarded directly to the Standards Council for action on issuance.

For more information on these new rules and for up-to-date information on schedules and deadlines for processing NFPA Documents, check the NFPA Web site at http://www.nfpa.org, or contact the NFPA Codes and Standards Administration.

The purpose of this notice is to request comments on the technical reports that will be published in the NFPA's 2011 Fall Revision Cycle. The publication of this notice by the National Institute of Standards and Technology (NIST) on behalf of NFPA is being undertaken as a public service; NIST does not necessarily endorse, approve, or recommend any of the standards referenced in the notice.

DATES: Thirty-nine reports are published in the 2011 Fall Revision Cycle Report on Proposals and will be available on December 22, 2010. Comments received by 5 p.m. EST/EDST on March 4, 2011 will be considered by the respective NFPA Committees before final action is taken on the proposals.

ADDRESSES: The 2011 Fall Revision Cycle Report on Proposals is available and downloadable from NFPA's Web site— http://www/nfpa.org or by requesting a copy from the NFPA, Fulfillment Center, 11 Tracy Drive, Avon, Massachusetts 02322. Comments on the report should be submitted to Secretary, Standards Council, NFPA, 1 Batterymarch Park, Quincy, Massachusetts 02169-7471.

FOR FURTHER INFORMATION CONTACT: Amy Beasley Cronin, Secretary, Standards Council, NFPA, 1 Batterymarch Park, Quincy, Massachusetts 02169-7471, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR part 51.

Request for Comments

Interested persons may participate in these revisions by submitting written data, views, or arguments to Amy Beasley Cronin, Secretary, Standards Council, NFPA, 1 Batterymarch Park, Quincy, Massachusetts 02169-7471. Commenters may use the forms provided for comments in the Reports on Proposals. Each person submitting a comment should include his or her name and address, identify the notice, and give reasons for any recommendations. Comments received by 5 p.m. EST/EDST on March 4, 2011 for the 2011 Fall Revision Cycle Report on Proposals will be considered by the NFPA before final action is taken on the proposals.

Copies of all written comments received and the disposition of those comments by the NFPA committees will be published as the 2011 Fall Revision Cycle Report on Comments by August 26, 2011. A copy of the Report on Comments will be sent automatically to each commenter.

2011 Fall Revision Cycle Report on Proposals
NFPA 59A | Standard for the Production, Storage, and Handling of Liquefied Natural Gas (LNG) | P
NFPA 75 | Standard for the Protection of Information Technology Equipment | P
NFPA 76 | Standard for the Fire Protection of Telecommunications Facilities | P
NFPA 115 | Standard for Laser Fire Protection | P
NFPA 150 | Standard on Fire and Life Safety in Animal Housing Facilities | P
NFPA 170 | Standard for Fire Safety and Emergency Symbols | P
NFPA 252 | Standard Methods of Fire Tests of Door Assemblies | P
NFPA 257 | Standard on Fire Test for Window and Glass Block Assemblies | P
NFPA 268 | Standard Test Method for Determining Ignitibility of Exterior Wall Assemblies Using a Radiant Heat Energy Source | P
NFPA 269 | Standard Test Method for Developing Toxic Potency Data for Use in Fire Hazard Modeling | P
NFPA 271 | Standard Method of Test for Heat and Visible Smoke Release Rates for Materials and Products Using an Oxygen Consumption Calorimeter | P
NFPA 275 | Standard Method of Fire Tests for the Evaluation of Thermal Barriers Used Over Foam Plastic Insulation | P
NFPA 285 | Standard Fire Test Method for Evaluation of Fire Propagation Characteristics of Exterior Non-Load-Bearing Wall Assemblies Containing Combustible Components | P
NFPA 287 | Standard Test Methods for Measurement of Flammability of Materials In Cleanrooms Using a Fire Propagation Apparatus (FPA) | P
NFPA 288 | Standard Methods of Fire Tests of Floor Fire Door Assemblies Installed Horizontally in Fire Resistance-Rated Floor Systems | P
NFPA 385 | Standard for Tank Vehicles for Flammable and Combustible Liquids | P
NFPA 497 | Recommended Practice for the Classification of Flammable Liquids, Gases, or Vapors and of Hazardous (Classified) Locations for Electrical Installations in Chemical Process Areas | P
NFPA 499 | Recommended Practice for the Classification of Combustible Dusts and of Hazardous (Classified) Locations for Electrical Installations in Chemical Process Areas | P
NFPA 550 | Guide to the Fire Safety Concepts Tree | P
NFPA 557 | Standard for Determination of Fire Load for Use in Structural Fire Protection Design | N
NFPA 560 | Standard for the Storage, Handling, and Use of Ethylene Oxide for Sterilization and Fumigation | W
NFPA 655 | Standard for Prevention of Sulfur Fires and Explosions | P
NFPA 1005 | Standard for Professional Qualifications for Marine Fire Fighting for Land-Based Fire Fighters | P
NFPA 1037 | Standard for Professional Qualifications for Fire Marshal | P
NFPA 1041 | Standard for Fire Service Instructor Professional Qualifications | P
NFPA 1051 | Standard for Wildland Fire Fighter Professional Qualifications | P
NFPA 1061 | Standard for Professional Qualifications for Public Safety Telecommunicator | P
NFPA 1401 | Recommended Practice for Fire Service Training Reports and Records | P
NFPA 1402 | Guide to Building Fire Service Training Centers | P
NFPA 1403 | Standard on Live Fire Training Evolutions | C
NFPA 1906 | Standard for Wildland Fire Apparatus | C
NFPA 1911 | Standard for the Inspection, Maintenance, Testing, and Retirement of In-Service Automotive Fire Apparatus | P
NFPA 1951 | Standard on Protective Ensembles for Technical Rescue Incidents | P
NFPA 1961 | Standard on Fire Hose | P
NFPA 1971 | Standard on Protective Ensembles for Structural Fire Fighting and Proximity Fire Fighting | P
NFPA 1983 | Standard on Life Safety Rope and Equipment for Emergency Services | P
NFPA 1991 | Standard on Vapor-Protective Ensembles for Hazardous Materials Emergencies | P
NFPA 1992 | Standard on Liquid Splash-Protective Ensembles and Clothing for Hazardous Materials Emergencies | P
NFPA 1994 | Standard on Protective Ensembles for First Responders to CBRN Terrorism Incidents | P
P = Partial revision; W = Withdrawal; R = Reconfirmation; N = New; C = Complete Revision.

Dated: October 22, 2010.
Harry Hertz,
Director, Baldrige Performance Excellence Program.

[FR Doc. 2010-27431 Filed 10-28-10; 8:45 am]

BILLING CODE 3510-13-P